DEPARTMENT OF DEFENSE

Office of the Secretary

[Transmittal No. 24-14]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-14, Policy Justification, and Sensitivity of Technology.

Dated: January 2, 2025.
Aaron T. Siegel,
Alternate OSD Federal Register Liaison Officer, Department of Defense.

BILLING CODE 6001-FR-P

BILLING CODE 6001-FR-C

Transmittal No. 24-14

Notice of Proposed Issuance of Letter of Offer Pursuant to Section 36(b)(1) of the Arms Export Control Act, as amended

(i) Prospective Purchaser: Government of Italy

(ii) Total Estimated Value:

Major Defense Equipment * | $ 74 million
Other | $ 76 million
TOTAL | $150 million

(iii) Description and Quantity or Quantities of Articles or Services under Consideration for Purchase: Foreign Military Sales (FMS) case IT-D-AAG was below congressional notification threshold at $22.5 million ($9.7 million in Major Defense Equipment (MDE)) and included twenty-four (24) Guided Bomb Unit (GBU)-53/B Small Diameter Bombs-Increment II (SDB-II) All-Up-Rounds (AURs); and four (4) GBU-53/B SDB-II Captive Carry Reliability Tests (CCRTs). The Government of Italy has requested the case be amended to include an additional one hundred twenty-five (125) GBU-53/B SDB-II AURs; and eight (8) GBU-53/B SDB-II CCRTs. This amendment will cause the case to exceed the MDE and total case value notification thresholds, and thus notification of the entire program is required.

The Government of Italy has also requested a new FMS case that includes an additional twenty-four (24) GBU-53/B SDB-II AURs; and two (2) GBU-53/B SDB-II CCRTs.

The above notification requirements are combined as follows:

Major Defense Equipment (MDE):

One hundred seventy-three (173) GBU-53/B SDB-II AURs

Fourteen (14) GBU-53/B, SDB-II CCRTs

Non-MDE:

Also included are SDB-II Weapon Load Crew Trainers (WLCT) and Practical Explosive Ordnance Disposal Trainers (PEST); munitions support and support equipment; unclassified software delivery and support; spare parts, consumables and accessories, and repair and return support; modifications and maintenance support; unclassified publications and technical documentation; studies and surveys; U.S. Government and contractor engineering, technical, and logistics support services; and other related elements of logistics and program support.

(iv) Military Department: Air Force (IT-D-AAG, IT-D-AAH)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: February 15, 2024

* as defined in Section 47(6) of the Arms Export Control Act.

POLICY JUSTIFICATION

Italy—Small Diameter Bomb II

The Government of Italy has requested to buy one hundred twenty-five (125) Guided Bomb Unit (GBU)-53/B Small Diameter Bombs-Increment II (SDB-II) All-Up-Rounds (AURs); and eight (8) GBU-53/B SDB-II Captive Carry Reliability Tests (CCRTs) that will be added to a previously implemented case whose value was under the congressional notification threshold. The original FMS case, valued at $22.5 million ($9.7 million in MDE), included twenty-four (24) GBU-53/B SDB-II AURs; and four (4) GBU-53/B SDB-II CCRTs. The Government of Italy has also requested a new FMS case that includes twenty-four (24) GBU-53/B SDB-II AURs; and two (2) GBU-53/B SDB-II CCRTs. This notification is for a combined total of one hundred seventy-three (173) GBU-53/B SDB-II AURs; and fourteen (14) GBU-53/B SDB-II CCRTs. Also included are SDB-II Weapon Load Crew Trainers (WLCT) and Practical Explosive Ordnance Disposal Trainers (PEST); munitions support and support equipment; unclassified software delivery and support; spare parts, consumables and accessories, and repair and return support; modifications and maintenance support; unclassified publications and technical documentation; studies and surveys; U.S. Government and contractor engineering, technical, and logistics support services; and other related elements of logistics and program support. The estimated total cost is $150 million.

This proposed sale will support the foreign policy goals and national security objectives of the United States by improving the security of a NATO Ally that is a force for political stability and economic progress in Europe.

The proposed sale will improve Italy's capability to meet current and future threats by improving the Italian Air Force and Navy's F-35 weapons capabilities. It will also advance United States interoperability with NATO and the Italian Armed Forces. Italy already has the SDB-II in its inventory and will have no difficulty absorbing this equipment into its armed forces.

The proposed sale of this equipment and support will not alter the basic military balance in the region.

The principal contractor will be RTX Corporation, Arlington, VA. There are no known offset agreements proposed in connection with this potential sale.

Implementation of this proposed sale will not require the assignment of any additional U.S. Government or contractor representatives to Italy.

There will be no adverse impact on U.S. defense readiness as a result of this proposed sale.

Transmittal No. 24-14

Notice of Proposed Issuance of Letter of Offer Pursuant to Section 36(b)(1) of the Arms Export Control Act

Annex

Item No. vii

(vii) Sensitivity of Technology:

1. The GBU-53/B Small Diameter Bomb—Increment II (SDB-II) is a 250-pound class precision-guided, semiautonomous, conventional, air-to-ground munition used to defeat moving targets from standoff range. The SDB-II has deployable wings and fins and uses Global Positioning System/Inertial Navigation System (GPS/INS) guidance, network-enabled datalink (Link-16 and ultra-high frequency (UHF)), and a multi-mode seeker (millimeter wave radar, imaging infrared, semi-active laser) to autonomously search, acquire, track, and defeat a variety of moving or stationary targets, at standoff range or close in, in a variety of attack modes, in clear or adverse weather. The SDB-II employs a multi-effects warhead (blast, fragmentation, and shaped-charge) for maximum lethality against armored and soft targets. The SDB-II weapon system consists of the tactical All-Up-Round (AUR) weapon, a 4-place common carriage system, and Mission Planning System Munitions Application Program (MAP).

a. The SDB-II Captive Carry Reliability Test vehicles are an inert SDB-II configuration used for any purpose where an inert round without telemetry or termination capability would be useful, but primarily for reliability data collection during carriage.

b. The SDB-II Weapon Load Crew Trainer (WLCT) is a mass mockup of the tactical AUR used for load crew and maintenance training. It does not contain energetics, a live fuze, any sensitive components, or hazardous material. It is not flight certified.

c. The SDB-II Practical Explosive Ordnance Disposal Trainer (PEST) is an Explosive Ordnance Disposal (EOD) training unit with sections and internal subassemblies which are identical to, or correlate to, the external hardware, sections and internal subassemblies of the tactical AUR. The PEST does not contain energetics, a live fuze, any sensitive components, or hazardous material. It is not flight certified.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Italy can provide substantially the same degree of protection for the sensitive technology being released as the U.S. Government. This sale is necessary in furtherance of the U.S. foreign policy and national security objectives outlined in the Policy Justification.

5. All defense articles and services listed in this transmittal have been authorized for release and export to Italy.

[FR Doc. 2025-00142 Filed 1-7-25; 8:45 am]

BILLING CODE 6001-FR-P